DEPARTMENT OF TRANSPORTATION

Office of the Secretary

Aviation Proceedings, Agreements Filed During the Week Ending January 18, 2002

The following Agreements were filed with the Department of Transportation under provisions of 49 U.S.C. Sections 412 and 414. Answers may be filed within 21 days after the filing of the application.

Docket Number: OST-2002-11336.

Date Filed: January 16, 2002.

Parties: Members of the International Air Transport Association.

Subject: PTC COMP 0891 dated 18 January 2002, Mail Vote 192—Resolution 024d, Amend rounding units for the Romanian Leu, Intended effective date: 1 February 2002.

Docket Number: OST-2002-11357.

Date Filed: January 17, 2002.

Parties: Members of the International Air Transport Association.

Subject: PTC123 0172 dated 18 January 2002, Mail Vote 193—Resolution 010v, Special Amending Resolution—Korea (Rep. of), Intended effective date: 1 February 2002.

Dorothy Y. Beard,
Federal Register Liaison.

[FR Doc. 02-2355 Filed 1-30-02; 8:45 am]

BILLING CODE 4910-62-P